CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled National Assessment of the Social Innovation Fund (SIF) for review and approval in accordance with the Paperwork Reduction Act of 1995, Public Law 104-13, (44 U.S.C. Chapter 35). Copies of this ICR, with applicable supporting documentation, may be obtained by calling the Corporation for National and Community Service, Lily Zandniapour, Ph.D., at 202-606-6939 or email to lzandniapour@cns.gov. Individuals who use a telecommunications device for the deaf (TTY-TDD) may call 1-800-833-3722 between 8:00 a.m. and 8:00 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on May 2, 2014. This comment period ended July 1, 2014. No public comments were received from this Notice.

Description: CNCS is seeking approval of National Assessment of the Social Innovation Fund (SIF)], which is used by the Office of Research and Evaluation to collect information on the effects of participation in SIF on organizations and communities. The information is needed for program improvement and planning and to assess program impact. Data will be collected from three groups of organizations: (1) Grantees funded by SIF (intermediaries), (2) non-funded SIF applicant organizations, and (3) a national probability sample of other nonprofit grant making organizations.

Type of Review: New.

Agency: Corporation for National and Community Service.

Title: National Assessment of the Social Innovation Fund (SIF).

OMB Number: None.

Agency Number: None.

Affected Public: CNCS-funded SIF intermediaries; non-funded applicant organizations; other nonprofit grant making organizations.

Total Respondents: 539.

Frequency: Annual for two years.

Average Time per Response: 23.0 minutes,

Estimated Total Burden Hours: 206.8,

Total Burden Cost (capital/startup): None.

Total Burden Cost (operating/maintenance): None.

Dated: January 5, 2015.
Mary Morris Hyde,
Deputy Director, Office of Research and Evaluation.

[FR Doc. 2015-00445 Filed 1-13-15; 8:45 am]

BILLING CODE 6050-28-P